DEPARTMENT OF COMMERCE

National Oceanic and Atmospheric Administration

RIN 0648-XK33

Marine Mammals; File Nos. 13583 and 13599

AGENCY: National Marine Fisheries Service (NMFS), National Oceanic and Atmospheric Administration (NOAA), Commerce.

ACTION: Notice; receipt of application.

SUMMARY: Notice is hereby given that the following two entities have applied in due form for permits to conduct import marine mammal parts for scientific research purposes:

National Marine Mammal Laboratory (NMML, Dr. John Bengtson, Responsible Party), 7600 Sand Point Way NE, Seattle, WA 98115 (File No. 13583) and

National Ocean Service Marine Forensic Lab (NOS Lab, Julie Carter, Principal Investigator), 219 Fort Johnson Road, Charleston, SC 29412 (File No. 13599).

DATES: Written, telefaxed, or e-mail comments must be received on or before October 14, 2008.

ADDRESSES: The applications and related documents are available for review upon written request or by appointment in the following office(s):

Permits, Conservation and Education Division, Office of Protected Resources, NMFS, 1315 East-West Highway, Room 13705, Silver Spring, MD 20910; phone (301)713-2289; fax (301)427-2521 (File Nos. 13583 and 13599);

Alaska Region, NMFS, P.O. Box 21668, Juneau, AK 99802-1668; phone (907)586-7221; fax (907)586-7249; and

Southeast Region, NMFS, 263 13th Avenue South, Saint Petersburg, Florida 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13583 or File No. 13599

FOR FURTHER INFORMATION CONTACT: Jennifer Skidmore (File Nos. 13583 and 13599), Kate Swails (File No. 13583) or Brandy Belmas (File No. 13599), (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

File No. 13583: NMML conducts research on marine mammals important to the mission of the National Marine Fisheries Service (NMFS) and the National Oceanic and Atmospheric Administration (NOAA). NMML is requesting a renewal of Permit No. 782-1694 which authorizes collection of cetacean and pinniped (except for walrus) specimens from dead animals, and for import, export, and possession of specimens taken legally worldwide. Samples may be archived, transported, shared, and analyzed by researchers in order to optimize the amount of biological information gained from each animal. No takes of live animals would be authorized under this permit. There will be no non-target species taken incidentally under this permit because the permit would only cover import, export, and possession of samples from dead animals or live animals taken legally under other permits. A permit is requested for a five-year period.

File No.13599: The NOS Lab is requesting authorization to receive, import, export, transfer, archive, and conduct analyses of marine mammal and endangered species parts. The applicant is requesting all cetaceans, pinnipeds (except for walrus), sea turtles (in the water), smalltooth sawfish (Pristis pectinata), shortnose sturgeon (Acipenser brevirostrum) and white abalone (Haliotis sorenseni) under NMFS jursidiction to be included in this permit request. No live animal takes are being requested and no incidental harassment of animals would occur. Samples would be archived at the NOS Lab and used to support law enforcement actions, research studies (primarily genetics), and outreach education. A permit is requested for five years. In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of this application to the Marine Mammal Commission and its Committee of Scientific Advisors.

Dated: September 5, 2008.
P. Michael Payne,
Chief, Permits, Conservation and Education Division, Office of Protected Resources, National Marine Fisheries Service.

[FR Doc. E8-21124 Filed 9-10-08; 8:45 am]

BILLING CODE 3510-22-S